DEPARTMENT OF COMMERCE

International Trade Administration

[C-122-848]

Hard Red Spring Wheat From Canada: Initiation of Expedited Review of the Countervailing Duty Order

AGENCY: Import Administration, International Trade Administration, Department of Commerce.

ACTION: Notice of initiation of expedited review of the countervailing duty order: Hard Red Spring Wheat from Canada.

SUMMARY: On November 18, 2003, the Department of Commerce received a request to conduct an expedited review of the countervailing duty order on hard red spring wheat from Canada. In accordance with 19 CFR 351.214(k), we are initiating this review.

EFFECTIVE DATE: December 31, 2003.

FOR FURTHER INFORMATION CONTACT: Daniel J. Alexy or Stephen Cho, Office of Antidumping/Countervailing Duty Enforcement, Group 1, Import Administration, U.S. Department of Commerce, Room 3099, 14th Street and Constitution Avenue, NW., Washington, DC 20230; telephone (202) 482-1540 and (202) 482-3798, respectively.

SUPPLEMENTARY INFORMATION:

Background

On November 18, 2003, the Department of Commerce (the “Department”) received a request from Richelain Farms (“Richelain”) to conduct an expedited review of the countervailing duty order on hard red spring wheat from Canada, issued October 23, 2003 (68 FR 60642). Richelain, a company that was not selected for individual examination during the investigation, made this request pursuant to 19 CFR 351.214(k).

Initiation of Expedited Review

In accordance with 19 CFR 351.214(k)(1)(i)-(iii), Richelain certified that it exported the subject merchandise to the United States during the period of investigation; that it is not affiliated with an exporter or producer that the Department individually examined in the investigation; and that it informed the Government of Canada, as the government of the exporting country, that the government will be required to provide a full response to the Department's questionnaire.

Therefore, in accordance with 19 CFR 351.214(k), we are initiating an expedited review of the countervailing duty order on hard red spring wheat from Canada. Pursuant to 19 CFR 351.214(k)(3), we intend to issue the preliminary results of this expedited review not later than 180 days from the date of initiation of this review. As specified by 19 CFR 351.214(k)(3)(i), the period of review will be based on the same period of time as the investigation, i.e., August 1, 2001, through July 31, 2002.

This expedited review is intended to provide an individual cash deposit rate or exclusion to Richelain. The final results of this expedited review will not be the basis for the assessment of countervailing duties.

Interested parties must submit applications for disclosure under administrative protective orders in accordance with 19 CFR 351.305 and 351.306.

Dated: December 23, 2003.
Holly A. Kuga,
Acting Assistant Secretary for Import Administration.

[FR Doc. 03-32229 Filed 12-30-03; 8:45 am]

BILLING CODE 3510-DS-P